DEPARTMENT OF ENERGY

Energy Information Administration

Agency Information Collection Activities: Information Collection Extension

AGENCY: Energy Information Administration (EIA), Department of Energy (DOE).

ACTION: Notice and request for comments.

SUMMARY: EIA, pursuant to the Paperwork Reduction Act of 1995, intends to extend (with changes) for three years with the Office of Management and Budget (OMB), Form GC-859 Nuclear Fuel Data Survey, OMB Control Number 1901-0287. Form GC-859 Nuclear Fuel Data Survey collects data on spent nuclear fuel from all utilities that operate commercial nuclear reactors and from all others that possess irradiated fuel from commercial nuclear reactors. Comments are invited on: Whether the proposed collection of information is necessary for the proper performance of the functions of the agency, including whether the information shall have practical utility; the accuracy of the agency's estimate of the burden of the proposed collection of information, including the validity of the methodology and assumptions used; ways to enhance the quality, utility, and clarity of the information to be collected; and ways to minimize the burden of the collection of information on respondents, including through the use of automated collection techniques or other forms of information technology.

DATES: Comments regarding this proposed information collection must be received on or before September 25, 2017. If you anticipate difficulty in submitting comments within that period, contact the person listed in ADDRESSES as soon as possible.

ADDRESSES: Written comments may be sent to Marta Gospodarczyk, Office of Electricity, Coal, Nuclear, and Renewables Analysis, EI-34, Forrestal Building, U.S. Department of Energy, 1000 Independence Ave. SW., Washington, DC 20585, or by email at marta.gospodarczyk@eia.gov.

FOR FURTHER INFORMATION CONTACT: Requests for additional information or copies of the information collection instrument and instructions should be directed to Marta Gospodarczyk at the contact information given above. Form GC-859 is available on the internet at https://www.eia.gov/survey/#gc-859.

SUPPLEMENTARY INFORMATION: This information collection request contains:

(1) OMB No.: 1901-0287.

(2) Information Collection Request Title: Nuclear Fuel Data Survey.

(3) Type of Request: Renewal.

(4) Purpose: The Nuclear Waste Policy Act of 1982 (42 U.S.C. 10101 et seq.) required that the DOE enter into Standard Contracts with all generators or owners of spent nuclear fuel and high-level radioactive waste of domestic origin. Form GC-859 (formerly Form RW-859) originated from an appendix to this Standard Contract.

Form GC-859 Nuclear Fuel Data Survey collects information on nuclear fuel use and spent fuel discharges from all utilities that operate commercial nuclear reactors and from all others that possess irradiated fuel from commercial nuclear reactors. The data collection provides stakeholders with detailed information concerning the spent nuclear fuel generated by the respondents (commercial utility generators of spent nuclear fuel and other owners of spent nuclear fuel within the U.S.).

Data collected from the survey are utilized by personnel from DOE Office of Nuclear Energy (NE), DOE Office of Environmental Management (EM), and the national laboratories to meet their research objectives of developing a range of options and supporting analyses that facilitate informed choices about how best to manage spent nuclear fuel (SNF).

(4a) Proposed Changes to Information Collection

• Collection of fuel manufacturer and lattice size used in Section C.1.1 of the 2013 GC-859 will be replaced by fuel assembly type codes in Section C.1.3. Fuel assembly type codes were last collected in the 2003 RW-859. Selection boxes were added to this section to reduce reporting burden. Respondents may mark the fuel assembly type code based on the reactor design, previously used fuel types, range of assembly identification numbers, and initial cycle in core. Identification of fuel assembly type provides significantly more information to analyze the spent fuel.

• Cumulative cycle burnup for each assembly is added to Section C.1.2 of the survey. Respondents may voluntarily report this data. Assembly burnup data by cycle is used to calculate discharged fuel characteristics and obtain fundamental parameters needed for spent fuel safety analyses.

• Section C.1.4 is added to the survey to collect data on all discharged fuel that is shipped or transferred to other storage sites (since January 1, 2003). This information was last collected in the 2003 using Form RW-859 and allows the tracking of all spent nuclear fuel discharged by commercial reactors, regardless of current ownership or transit status.

• Section C.2 `Projected Assembly Discharges' is deleted since this data is no longer needed for analysis.

• Section C.3.3.1 requests information for consolidated, reconstituted, reconstructed fuel assemblies. A drop-down menu was created with these three choices of fuel assemblies.

• A note is added in Section D.3.2 `Multi-Assembly Canisters/Casks Inventory' to capture deviations from standard operating procedures related to drying, backfilling, leak testing, or pad transfer processes.

• Dry cask loading pattern maps with orientation details are added to Section D.3.3 of the survey. For each canister/cask model, respondents provide or reference a loading map that clearly indicates identifiers for basket cell locations relative to fixed drain and vent port locations. For systems stored horizontally, the map indicates which direction is up when placed in a horizontal storage module. The dry cask loading pattern data facilitates detailed as-loaded analyses and enables the quantification of realistic safety margins and conditions.

• Section E.2 `Non-fuel Components Integral to an Assembly' is deleted and the data on non-fuel components integral to an assembly should be reported in Section C.1.1.

• Schedule G is deleted. This schedule was used to collect comments. It is easier for respondents to provide comments when completing a schedule so the new form will collect comments after each section.

• A copy of Standard Contract (10 CFR 961.11) Appendix E General Specifications is added to the survey for the convenience of the respondents.

• The following terms have either been added or updated to match the definition prescribed by the Standard Contract; Canister, DOE Facility, Failed Fuel, Multi-Assembly Canister/Cask, Non-fuel Component Identifier, Non-standard Fuel and Reconstructed Assembly.

• DOE proposes to use Form GC-859 to collect information once every three years. Reporting once every three years reduces respondent burden by permitting all new data for the multiyear period to be reported in one report.

(5) Annual Estimated Number of Respondents: 125 respondents with one response each.

(6) Annual Estimated Number of Total Responses: The annual number of total responses is 42.

(7) Annual Estimated Number of Burden Hours: 3,746.7 hours.

(8) Annual Estimated Reporting and Recordkeeping Cost Burden: Additional costs to respondents are not anticipated beyond costs associated with response burden hours. The information is maintained in the normal course of business. The cost of the burden hours is estimated to be $275,980 (3,746.7 burden hours times $73.66 per hour). EIA estimates that there are no additional costs to respondents associated with the survey other than the costs associated with the burden hours.

Statutory Authority: Section 13(b) of the Federal Energy Administration Act of 1974, Pub. L. 93-275, codified as 15 U.S.C. 772(b) and the DOE Organization Act of 1977, Pub. L. 95-91, codified at 42 U.S.C. 7101 et seq. The Nuclear Waste Policy Act of 1982 codified at 42 U.S.C. 10222 et seq.

Issued in Washington, DC, on July 3, 2017.
Nanda Srinivasan,
Director, Office of Survey Development and Statistical Integration, Energy Information Administration.

[FR Doc. 2017-15846 Filed 7-26-17; 8:45 am]

BILLING CODE 6450-01-P